ENVIRONMENTAL PROTECTION AGENCY

[OPP-2004-0248; FRL-7372-5]

Tribal Pesticide Program Council; Notice of Public Meeting

AGENCY: Environmental Protection Agency (EPA).

ACTION: Notice.

SUMMARY: The Tribal Pesticide Program Council (TPPC) will hold a 2-day meeting, beginning on September 8 and ending on September 9, 2004, concerning the TPPC's information exchange in relationship with EPA regarding important issues related to human health, environmental exposure to pesticides, and insight into EPA's decision making process. This notice announces the location and times for the meeting, and sets forth the tentative agenda topics. One Tribal Caucus is scheduled each day.

DATES: The meeting will be held on Wednesday, September 8, 2004, from 9 a.m. to 5 p.m., and Thursday, September 9, 2004, from 9 a.m. to 5 p.m.

ADDRESSES: The meeting will be held at the Tradewinds on the Bay, 4305 Pomeroy Lane, Tokeland, WA. The telephone number is (360) 267-7500.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov or Lillian Wilmore, TPPC Facilitator, P.O. Box 470829 Brookline Village, MA 02447-0829; telephone number: (617) 232-5742; fax (617)277-1656; e-mail address: naecology@aol.com.

SUPPLEMENTARY INFORMATION:

I. General Information

A. Does this Action Apply to Me?

You may be potentially affected by this action if you are interested in TPPC's information exchange relationship with EPA regarding important issues related to human health, environmental exposure to pesticides, and insight into EPA's decisionmaking process.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the persons listed under FOR FURTHER INFORMATION CONTACT.

B. How Can I Get Copies of this Document and Other Related Information?

1. Docket. EPA has established an official public docket for this action under docket identification (ID) number OPP-2004-0248. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m.to 4 p.m., Monday through Friday, excluding legal holidays. The docket telephone number is(703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

1. TPPC State of the Council Report

2. Presentation and Questions and Answers by EPA's Office of Pesticide Programs and Field and External Affairs Division

3. Reports from Working Groups and TPPC Participation in Other Meetings:

• Subsistence, Environmental Indicators, FOSTTA, Pesticide Program Dialogue Committee, Tribal Pesticide Program Training, Worker Projection

4. Tribal Caucus (two)

5. Reports from Other Organizations:

• State FIFRA Issues Research & Evaluation Group

• American Indian Environmental Office

• Tribal Operations Committee

• Regional Tribal Operations Committee

• Intertribal Agriculture Council

• National Tribal Environmental Council

• Intertribal Agriculture Council

• Tribal Air Group

6. Endangered Species Protection Program—Update

7. Report on Funding of Special Projects and Water Quality Projects to Tribes

8. Government Performance Results Act (GPRA) and Measurable Results

9. Office of Enforcement and Compliance Assurance (OECA) Enforcement Priorities

10. National Pesticide Field Data Base

11. TPPC Database: Building and Maintaining the Database

12. Updates from the Regional Offices: Sub-Lead, Region 9, and Region 10

13. OECA updates: EPA Federal Inspector Credentials Guidance; Reporting Issues

14. Certification and Training: Tribal Issues: Navajo Federal Certification Plan

15. Tribal and State Memorandum of Understanding: Aerial Applicators

16. Tribal Pesticide Codes—Panel Presentation

17. Building the TPPC Invasive Species Working Group

List of Subjects

Environmental protection.

Dated: August 4, 2004.
Jay S. Ellenberger,
Division Director, Field External Affairs Division, Office of Pesticide Programs.

[FR Doc. 04-18386 Filed 8-10-04; 8:45 am]

BILLING CODE 6560-50-S